DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 3, 2000.

Interested persons are invited to submit written comments regarding the subject matter of the investigations to the Director, Division of Trade Adjustment Assistance, at the address shown below, not later than March 3, 2000.

The petitions filed in this case are available for inspection at the Office of the Director, Division of Trade Adjustment Assistance, Employment and Training Administration, U.S. Department of Labor, 200 Constitution Avenue, NW., Washington, DC 20210.

Signed at Washington, DC. this 7th day of February, 2000.

Grant D. Beale,
Program Manager, Division of Trade Adjustment Assistance.

Appendix

Petitions Instituted on 02/07/2000
TA-W | Subject firm (Petitioners) | Location | Date of petition | Product(s)
37,301 | Western Moulding Co (Comp) | Snowflake, AZ | 01/28/2000 | Raw Lumber.
37,302 | Schmalbach Lubeca Plastic (Comp) | Novi, MI | 01/20/2000 | Plastic Bottles.
37,303 | Motor Coils Manufacturing (Wrks) | Emporium, PA | 01/18/2000 | Rebuilt Traction Motor Armature and Coil.
37,304 | Nova Bus (Wrks) | Roswell, NM | 01/11/2000 | Busses.
37,305 | Kemmer Prazision (Wrks) | Janesville, WI | 01/21/2000 | Carbide Drills.
37,306 | Ordocician Association (Comp) | Midland, TX | 01/21/2000 | Provide Geologic and Engineering Info.
37,307 | Vivid Publishing, Inc (Wrks) | Montoursville, PA | 01/19/2000 | State Waterway Maps.
37,308 | Tweco Products (Comp) | Wichita, KS | 01/28/2000 | Welding Accessories.
37,309 | Wharton Knitting/Rita (Comp) | Ridgewood, NY | 01/20/2000 | Men's and Ladies' Sweaters.
37,310 | Boyt Harness Co LLC (Wrks) | Arlington, SD | 01/18/2000 | Gun Cases and Men's Hunting Sportswear.
37,311 | Gale River Designs (Wrks) | Franconia, NH | 01/26/2000 | Ladies' Evening Dresses, Tops.
37,312 | Florence Eiseman, Inc (Wrks) | Milwaukee, WI | 01/18/2000 | Girls Dresses, Coats and Baby Clothes.
37,313 | PacifiCorp (Wrks) | Portland, OR | 01/12/2000 | Electricity.
37,314 | Shell Chemical Co (Comp) | Apple Grove, WV | 01/12/2000 | Polyester Resins.
37,315 | Jantzen, Inc (Wrks) | Vancouver, WA | 01/25/2000 | Swimwear.
37,316 | Lower Umpqua Federal (Comp) | Reedsport, OR | 01/20/2000 | Credit Union Services.
37,317 | Sewell Clothing Co., Inc (Comp) | Bremen, GA | 01/26/2000 | Men's Dress Pants.
37,318 | Grifel and Lobel (Wrks) | New York, NY | 01/10/2000 | Buttons.
37,319 | Furon Co (Comp) | Laguna Niguel, CA | 01/17/2000 | Develop and Mfr Highly Engineered Products.
37,320 | Coats American (Comp) | Bristol, RI | 01/07/2000 | Industrial Sewing Thread.
37,321 | Cedarbrook Mfg Corp (Wrks) | Philadelphia, PA | 01/29/2000 | Decorative Metal Accent Furniture.
37,322 | Herbert Grossman Ent. Inc (UNITE) | New York, NY | 01/26/2000 | Ladies' Suits.
37,323 | Durashield USA (Wrks) | Sunbury, OH | 01/28/2000 | Baking Pans and Cookwear.
37,324 | Williamson Co (The) (Wrks) | Fairfield, IL | 01/26/2000 | Lumber.
37,325 | Surrett International (Wrks) | Galesburg, IL | 01/24/2000 | Plastic Pond Liners.
37,326 | Monterey, Inc (UNITE) | Janesville, WI | 01/25/2000 | Fake Fur Fabrics.

[FR Doc. 00-4124 Filed 2-18-00; 8:45 am]

BILLING CODE 4510-30-M